BROADCASTING BOARD OF GOVERNORS

Sunshine Act Meeting

DATE AND TIME: Friday, September 17, 2010, 10 a.m.-12 p.m.

PLACE: Cohen Building, Room 3321, 330 Independence Ave., SW., Washington, DC 20237.

SUBJECT: Notice of Meeting of the Broadcasting Board of Governors.

SUMMARY: The Broadcasting Board of Governors (BBG) will be meeting at the time and location listed above. The BBG will be considering BBG Governance Committee recommendations, paying a tribute to OCB Director Pedro Roig, and discussing the BBG's research program and matters concerning the BBG's draft FY 2012 annual budget. The meeting is open—via webcast—to the public, but the portion of the meeting concerning the BBG's draft FY 2012 annual budget will be closed to the public pursuant to 5 U.S.C. 552b(c)(9)(B). The open portion of the meeting is available for the public to observe via streaming on the BBG's Web site at http://www.bbg.gov.

CONTACT PERSON FOR MORE INFORMATION: Persons interested in obtaining more information should contact Paul Kollmer-Dorsey at (202) 203-4545.

Paul Kollmer-Dorsey,
Deputy General Counsel.

[FR Doc. 2010-23004 Filed 9-10-10; 4:15 pm]

BILLING CODE 8610-01-P